DEPARTMENT OF AGRICULTURE

Office of the Secretary

Meeting Notice of the National Agricultural Research, Extension, Education, and Economics Advisory Board

AGENCY: Research, Education, and Economics, USDA.

ACTION: Notice of meeting.

SUMMARY: In accordance with the Federal Advisory Committee Act, 5 U.S.C. App 2, Section 1408 of the National Agricultural Research, Extension, and Teaching Policy Act of 1977 (7 U.S.C. 3123), and the Agricultural Act of 2014, the United States Department of Agriculture (USDA) announces an open meeting of the National Agricultural Research, Extension, Education, and Economics (NAREEE) Advisory Board.

DATES: The National Agricultural Research, Extension, Education, and Economics Advisory Board will meet October 21-23, 2014: October 21, 2014, 1:00 p.m.-5:30 p.m. October 22, 2014, 8:00 a.m.-5:00 p.m. October 23, 2014, 8:00 a.m.-12:00 p.m.

ADDRESSES: Loew's Madison Hotel, 1177 Fifteenth Street NW., Washington, DC 20005.

FOR FURTHER INFORMATION CONTACT: Michele Esch, Designated Federal Officer and Executive Director, National Agricultural Research, Extension, Education, and Economics Advisory Board, U.S. Department of Agriculture, 1400 Independence Avenue SW., STOP 0321, Washington, DC 20250-0321; telephone: (202) 720-3684; fax: (202) 720-6199; or email: michele.esch@usda.gov.

SUPPLEMENTARY INFORMATION:

Purpose of the Meeting: To provide advice and recommendations on the top priorities and policies for food and agricultural research, education, extension and economics.

Tentative Agenda: The agenda will include the following:

• Update on Research, Education, and Economics mission area activities.

• Roundtable discussion on the process for completing the mandatory annual relevancy and adequacy review.

• Updates from the subcommittees of the NAREEE Advisory Board, including the National Genetic Resources Advisory Council, the Specialty Crop Committee, and the Citrus Disease Subcommittee.

• Updates from the working groups of the NAREEE Advisory Board, including deliberation of reports and recommendations on the Balance of Crop Research and the Review of the Agricultural Experiment Station System.

Public Participation: This meeting is open to the public and any interested individuals wishing to attend. Opportunity for public comment will be offered at the end of each day of the meeting. To attend the meeting and/or make oral statements regarding any items on the agenda, you must contact Michele Esch at 202-720-8408; email: Michele.esch@usda.gov at least 5 business days prior to the meeting. Members of the public will be heard in the order in which they sign up at the beginning of the meeting. The Chair will conduct the meeting to facilitate the orderly conduct of business. Written comments by attendees or other interested stakeholders will be welcomed for the public record before and up to two weeks following the Board meeting (by close of business Tuesday, November 4, 2014). All written statements must be sent to Michele Esch, Designated Federal Officer and Executive Director, National Agricultural Research, Extension, Education, and Economics Advisory Board, U.S. Department of Agriculture, 1400 Independence Avenue SW., STOP 0321, Washington, DC 20250-0321; or email: michele.esch@usda.gov. All statements will become a part of the official record of the National Agricultural Research, Extension, Education, and Economics Advisory Board and will be kept on file for public review in the Research, Education, and Economics Advisory Board Office.

Done at Washington, DC, this 1st day of October 2014.
Ann Bartuska,
Deputy Under Secretary, Research, Education, and Economics.

[FR Doc. 2014-23814 Filed 10-3-14; 8:45 am]

BILLING CODE 3410-03-P